DEPARTMENT OF LABOR

Occupational Safety and Health Administration

[Docket No. ICR-1218-0095(2001)]

Concrete and Masonry Construction; Extension of the Office of Management of Budget's (OMB) Approval of Information-Collection (Paperwork) Requirements

AGENCY: Occupational Safety and Health Administration (OSHA), Labor.

ACTION: Notice of an opportunity for public comment.

SUMMARY: OSHA solicits comments concerning its request to decrease the existing burden-hour estimates for, and to extend OMB approval of, the collection-of-information requirements of 29 CFR 1926, subpart Q (“Concrete and Masonry Construction”). After a thorough review of the paperwork requirements specified by this subpart, the Agency determined that none of them results in burden hours or costs as specified by the Paperwork Reduction Act of 1995.

DATES: Submit written comments on or before July 30, 2001.

ADDRESSES: Submit written comments to the Docket Office, Docket No. ICR-1218-0095(2001), OSHA, U.S. Department of Labor, Room N-2625, 200 Constitution Avenue, NW., Washington, DC 20210; telephone (202) 693-2350. Commenters may transmit written comments of 10 pages or less by facsimile to (202) 693-1648.

FOR FURTHER INFORMATION CONTACT: Kathleen M. Martinez, Directorate of Policy, Office of Regulatory Analysis, OSHA, U.S. Department of Labor, Room N-3609, 200 Constitution Avenue, NW., Washington, DC 20210; telephone (202) 693-1953. A copy of the Agency's Information-Collection Request (“ICR”) describing the information collections specified by 29 CFR 1926, subpart Q is available for inspection and copying in the Docket Office or by requesting a copy from Todd Owen at (202) 693-2444. For electronic copies of the ICR contact OSHA on the Internet at http://www.osha.gov/comp-links.html and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct.

After a thorough review of the seven standards in 29 CFR 1926, subpart Q (hereafter, “Subpart”), OSHA identified a number of paperwork requirements; however, it determined that none of these requirements impose burden hours or costs on respondents as specified by PRA-95. These requirements, and the rationale for excluding them from the provisions of PRA-95 regulating burden-hour and cost determinations, are:

• The warning signs specified for post-tensioning areas by paragraph (c)(2) of § 1926.701 (“General Requirements”), and the requirements to lock-out and tag-out ejection systems and other hazardous equipment mandated by paragraphs (a)(2), (j)(1), and (j)(2), of § 1926.702 (“Requirements for Equipment and Tools”), because paragraphs § 1926.701(c)(2) and § 1926.702(a)(2) imply the wording for the required warning signs and ejection-system tags, while paragraph § 1926.702(j)(2) provides the exact wording for the hazardous-equipment tags;

• Paragraph (a)(2) of § 1926.703 (“Requirements for Cast-in-Place Concrete”), which requires employers to make available at the jobsite drawings or plans for the jack layout, formwork (including shoring equipment), working decks, and scaffolds, as well as revisions to these documents, because having these drawings or plans available at the jobsite is a usual and customary business practice;

• Provisions in § 1926.703 addressing shoring design (paragraph (b)(8)(i)) and formwork-removal plans (paragraph (e)(1)(i)) because these provisions are part of the general design-and-planning requirement of paragraph (a)(2);

• The designs and plans specified by paragraph (a) of § 1926.705 (“Requirements for Lift-Slab Construction Operations”) because employers develop and use these documents as a usual and customary business practice; and

• Marking the rated capacity of jacks and lifting units as required by § 1926.703 because the manufacturers and suppliers of this equipment provide this service as a usual and customary practice.

The warning-signs required by paragraph § 1926.701(c)(2) reduce exposure of nonessential employees to the hazards of post-tensioning operations, principally a failed rope or wire that could strike an employee and cause serious injury. The requirements to lock-out and tag-out ejection systems and other hazardous equipment (e.g., compressors, mixers, screens or pumps used for concrete and masonry construction) specified by paragraphs § 1926.702(a)(2), (j)(1), and (j)(2) warn equipment operators not to activate their equipment if another employee enters the equipment to perform a task (e.g., cleaning, inspecting maintenance, repairing), thereby preventing serious injury or death.

Construction contractors and employees use the drawings, plans, and designs required by § 1926.703(a)(2), (b)(8)(i), and (e)(1)(i) to provide specific instructions on how to construct, erect, brace, maintain, and remove shores and formwork if they pour concrete at the jobsite. Similarly, the designs and plans specified by § 1926.705(a) identify methods for assembling and stabilizing lift slabs during construction. These requirements assure the structural stability and integrity of the formwork and lift slabs, which prevents employee injury and death that may result from the collapse of the formwork or lift slabs. In addition, OSHA compliance officers review the required paperwork to determine if the formwork and lift slabs comply with the specifications and instructions contained in these documents.

Section 1926.705(b) requires employers to mark the rated capacity of jacks and lifting units. This requirement prevents overloading and subsequent collapse of jacks and lifting units, as well as their loads, thereby sparing exposed employees from serious injury and death.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and-transmission techniques.

III. Proposed Actions

OSHA is requesting a decrease in the existing burden-hour estimate for, as well as an extension of OMB approval of, the collection-of-information requirements specified by the Subpart. Accordingly, the Agency is requesting to decrease the current burden hour estimate from 7,787 hours to 0 hours, a total reduction of 7,787 hours. The Agency justifies this reduction based on its conclusion that the paperwork requirements found in this Subpart do not impose respondent burden hours or costs as specified by PRA-95. OSHA is requesting to extend OMB's previous approval of the recordkeeping (paperwork) requirements specified by the Subpart. The Agency will summarize the comments submitted in response to this notice, and will include this summary in its request to OMB to extend its approval of these information-collection requirements.

Type of Review: Extension of currently approved information-collection requirements.

Title: Concrete and Masonry Construction.

OMB Number: 1218-0095.

Affected Public: Business or other for-profit; not-for-profit institutions; Federal government; State, local or tribal governments.

Number of Respondents: None.

Frequency of Response: None.

Average Time per Response: None.

Estimated Total Burden Hours: None.

Estimated Cost (Operation and Maintenance): None.

IV. Authority and Signature

R. Davis Layne, Acting Assistant Secretary of Labor for Occupational Safety and Health, directed the preparation of this notice. The authority for this notice is the Paperwork Reduction Act of 1995 (44 U.S.C. 3506) and Secretary of Labor's Order No. 3-2000 (65 FR 50017).

Signed at Washington, DC on May 25, 2001.
R. Davis Layne,
Acting Assistant Secretary of Labor.

[FR Doc. 01-13691 Filed 5-30-01; 8:45 am]

BILLING CODE 4510-26-M